DEPARTMENT OF HOMELAND SECURITY

Coast Guard

33 CFR Part 167

[Docket No. USCG-2005-21650]

Port Access Route Study: In the Waters of Montauk Channel and Block Island Sound

AGENCY: Coast Guard, DHS.

ACTION: Notice of availability of Preliminary Study Recommendations with request for comments.

SUMMARY: The Coast Guard announces the availability of Preliminary Study Recommendations of a Port Access Route Study evaluating the continued applicability of and the need for modifications to the current vessel routing measures in the Waters of Montauk Channel and Block Island Sound. The goals of the study are to help reduce the risk of marine casualties and increase vessel traffic management efficiency in the study area. Preliminary recommendations indicate that marine transportation safety would be enhanced through modifications to the existing vessel routing systems. The Coast Guard solicits comments on the preliminary recommendations presented in this document so we can complete our Port Access Route Study.

DATES: Comments and related material must either be submitted to our online docket via http://www.regulations.gov on or before October 4, 2011 or reach the Docket management facility by that date.

ADDRESSES: You may submit comments identified by docket number USCG-2005-21650 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this study, call or e-mail Lieutenant Junior Grade Isaac Slavitt, Project Officer, First Coast Guard District, telephone 617-223-8385, e-mail Isaac.M.Slavitt@uscg.mil; or George Detweiler, Office of Navigation Systems, Coast Guard, telephone 202-267-0416, e-mail George.H.Detweiler@uscg.mil. If you have questions on viewing or submitting material to the docket, call Ms. Renee V. Wright, Program Manager, Docket Operations, telephone 202-366-9826.

SUPPLEMENTARY INFORMATION:

Public Participation and Request for Comments

We encourage you to participate in this study by submitting comments and related material on the Preliminary Study Recommendations of a Port Access Route Study: In the Waters of Montauk Channel and Block Island Sound. All comments received will be posted without change to http://www.regulations.gov and will include any personal information you have provided.

Submitting comments: If you submit a comment, please include the docket number for this notice (USCG-2005-21650), indicate the specific section of this document to which each comment applies, and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2005-21650” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments and documents: To view comments and documents mentioned in this preamble as being available in the docket, go to http://www.regulations.gov, insert “USCG-2005-21650” in the “Keyword” box and click “Search.” If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Discussion

I. Definitions

The following definitions (except “Regulated Navigation Area”) are from the International Maritime Organization's (IMO's) publication “Ships' Routeing” Tenth Edition, 2010 and may help you review this notice:

Area to be avoided (ATBA) means a routing measure comprising an area within defined limits in which either navigation is particularly hazardous or it is exceptionally important to avoid casualties and which should be avoided by all ships, or certain classes of ships.

Precautionary area means a routing measure comprising an area within defined limits where ships must navigate with particular caution and within which the direction of traffic flow may be recommended.

Recommended route means a route of undefined width, for the convenience of ships in transit, which is often marked by centerline buoys.

Regulated Navigation Area (RNA) is a water area within a defined boundary for which regulations for vessels navigating within the area have been established under 33 CFR part 165.

Separation Zone or separation line means a zone or line separating the traffic lanes in which ships are proceeding in opposite or nearly opposite directions; or from the adjacent sea area; or separating traffic lanes designated for particular classes of ships proceeding in the same direction.

Traffic lane means an area within defined width in which one-way traffic is established. Natural obstacles, including those forming separation zones, may constitute a boundary.

Traffic Separation Scheme (TSS) means a routing measure aimed at the separation of opposing streams of traffic by appropriate means and by the establishment of traffic lanes.

Two-way route means a route within defined limits inside which two-way traffic is established, aimed at providing safe passage of ships through waters where navigation is difficult or dangerous.

Vessel routing system means any system of one or more routes or routing measures aimed at reducing the risk of casualties; it includes traffic separation schemes, two-way routes, recommended tracks, areas to be avoided, inshore traffic zones, roundabouts, precautionary areas, and deep-water routes.

II. Background and Purpose

A. Requirement for This Port Access Route Study: Under the Ports and Waterways Safety Act (PWSA) (33 U.S.C. 1221-1232), the Coast Guard may designate necessary fairways and traffic separation schemes to provide safe access routes for vessels proceeding to and from U.S. ports. The designation of fairways and TSSs recognizes the paramount right of navigation over all other uses in the designated areas.

Subsequent to an oil spill in Buzzards Bay in April 2003, the Coast Guard sponsored a Ports and Waterways Safety Assessment. One of the recommendations of the Assessment was that the Coast Guard establish a recommended route to assist vessel traffic and provide safer transit routes for commercial vessels. In response the Coast Guard created a recommended route from Cleveland Ledge, Buzzards Bay, Massachusetts to The Race, Long Island Sound, New York. This recommended route was subsequently incorporated on nautical charts by the National Oceanic and Atmospheric Administration. The Coast Guard determined that a Port Access Route Study (PARS) was needed to review and analyze all existing vessel routing measures in the approaches to Block Island Sound, between Montauk Channel and The Race, and the area from the Point Judith Pilot Boarding area to The Race. The goals of the PARS were to help reduce the risk of marine casualties and increase vessel traffic management efficiency in the study area.

Preliminary recommendations of the PARS include modifications to vessel routing measures in Montauk Channel and The Race. These recommendations also include the establishment of a two-way route for Montauk Channel.

B. Conduct of this PARS: We announced the PARS in a notice published in the Federal Register on July 1, 2005 (70 FR 38061). We will complete the PARS after review of any comments received in response to this notice.

C. Data used by the Coast Guard to conduct the PARS: We reviewed various studies and data collected both in-house and by other waterway users on various traffic patterns in Block Island Sound. No comments were received during the Notice of Study request for comments and no public meetings were requested or held. Since no comments or recommendations were received the Coast Guard established a navigation working group. The make-up of the navigation working group included the New York and Connecticut Pilots, the Coast Guard, and various Block Island Sound maritime industry representatives. The navigation working group submitted preliminary recommendations which are addressed as described in paragraph III below.

D. Publishing these preliminary recommendations: Because of the lack of comments to the original notice and our strong desire to engage the public in the study process, we decided to ask for comments on the recommendations presented by the navigation working group. The primary rationale was to allow the public to help us refine these recommendations through constructive comments.

III. Study Recommendations

From the information examined and the input provided by the navigation working group, we identified three recommendations that could be realized. Comments are particularly solicited with respect to these recommendations. A navigation chart with the proposed recommendations plotted is included in the docket at http://www.regulations.gov.

Recommendation 1: Remove the existing Recommended Route from the Race to the western edge of the Narragansett Bay Traffic Separation Scheme (TSS).

Recommendation 2: A Recommended Two Way Route for the Approaches to Block Island Sound should be established between the following geographical positions:

Latitude | Longitude
41°00′51.30″ N | 071°42′09.05″ W
41°10′10.04″ N | 071°42′09.05″ W
41°10′20.42″ N | 071°41′21.91″ W
41°00′51.30″ N | 071°41′21.91″ W

A Recommended Two Way Route for northwest and southeast bound traffic should be established between the following geographic positions:

Latitude | Longitude
41°13′29.27″ N | 072°02′54.82″ W
41°13′44.08″ N | 072°00′40.34″ W
41°10′44.76″ N | 071°41′58.95″ W
41°10′10.04″ N | 072°42′09.05″ W

A Recommended Two Way Route for entrance into and exit from Long Island Sound should be established between the following geographic positions:

Latitude | Longitude
41°15′01.49″ N | 072°04′07.69″ W
41°14′04.56″ N | 072°02′37.42″ W
41°13′29.27″ N | 072°02′54.82″ W
41°14′34.40″ N | 072°04′37.91″ W

An east/west Recommended Two Way Route for coastwise traffic should be established between the following geographic positions:

Latitude | Longitude
41°14′04.56″ N | 072°02′37.42″ W
41°17′21.88″ N | 071°37′48.80″ W
41°16′42.03″ N | 071°38′17.44″ W
41°13′44.08″ N | 072°00′40.34″ W

A Recommended Two Way Route for northeast and southwest bound traffic should be established between the following geographic positions:

Latitude | Longitude
41°10′44.76″ N | 071°41′58.95″ W
41°16′42.03″ N | 071°38′17.44″ W
41°16′49.55″ N | 071°37′20.65″ W
41°10′20.42″ N | 071°41′21.91″ W

This northeast/southwest route would be marked with a note reading “Recommended Vessel Tracks for deep draft vessels (including tugs and barges). While not mandatory, deep draft commercial vessels (including tugs and barges) are requested to follow designated routes at the master's discretion. Other vessels while not excluded from these routes, should exercise caution in and around these areas and monitor VHF channel 16 or 13 for information concerning deep draft vessels (including tugs and barges) transiting these routes”.

Recommendation 3: Move Montauk Point Lighted Whistle Buoy MP (LLNR 655) to the geographic position 41° 00.47′ N, 071°41.44′ W to mark the middle of the Two Way Route for the Approaches to Block Island Sound.

IV. Future Actions

Upon receipt of any comments concerning this notice of preliminary study results, we will analyze them and publish a notice of study results in the Federal Register. Any recommended changes to the Code of Federal Regulations will require that a notice of proposed rulemaking (NPRM) be published in the Federal Register. In addition, any changes to the vessel routing system, i.e., TSS, ATBA, and precautionary areas, will be submitted to the International Maritime Organization for adoption and implementation.

Dated: July 12, 2011.
Daniel A. Neptun,
Rear Admiral, U.S. Coast Guard, Commander, First Coast Guard District.

[FR Doc. 2011-19859 Filed 8-4-11; 8:45 am]

BILLING CODE 9110-04-P